NUCLEAR REGULATORY COMMISSION

[NRC-2024-0210]

U.S. Nuclear Regulatory Commission Plan for Monitoring Disposal Actions Taken by the U.S. Department of Energy at the Savannah River Site Saltstone Disposal Facility in Accordance With the Ronald W. Reagan National Defense Authorization Act for Fiscal Year 2005, Revision 2

AGENCY: Nuclear Regulatory Commission.

ACTION: Notice of issuance; availability.

SUMMARY: The U.S. Nuclear Regulatory Commission (NRC) is announcing the availability of “U.S. Nuclear Regulatory Commission Plan for Monitoring Disposal Actions Taken by the U.S. Department of Energy at the Savannah River Site Saltstone Disposal Facility in Accordance with the Ronald W. Reagan National Defense Authorization Act for Fiscal Year 2005, Revision 2.” This monitoring plan describes how the NRC staff intends to complete its assessment of compliance with NRC's performance objectives for the Department of Energy (DOE) disposal actions at the Savannah River Site (SRS) Saltstone Disposal Facility (SDF).

DATES: April 3, 2025.

ADDRESSES: Please refer to Docket ID NRC-2024-0210 when contacting the NRC about the availability of information regarding this document. You may access publicly available information related to this document using any of the following methods:

• Federal Rulemaking Website: Go to https://www.regulations.gov and search for Docket ID NRC-2024-0210. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Harry Felsher, Office of Nuclear Material Safety and Safeguards; U.S. Nuclear Regulatory Commission, Washington, DC 20555-0001; telephone: 301-415-6559; email: Harry.Felsher@nrc.gov.

SUPPLEMENTARY INFORMATION:

I. Discussion

The monitoring plan describes the NRC staff's planned activities in carrying out its responsibilities for monitoring the DOE disposal actions at the Savannah River Site (SRS) Saltstone Disposal Facility (SDF) in accordance with the Ronald W. Reagan National Defense Authorization Act for Fiscal Year 2005 (NDAA). In 2005, the DOE provided the Draft Basis for Waste Determination for the SRS SDF to the NRC, as part of the DOE's consultation with the NRC required by NDAA Section 3116(a). After its review, the NRC issued a Technical Evaluation Report (TER) for the SRS SDF in December 2005. In the 2005 TER, the NRC staff documented the results of its review and concluded that there was reasonable assurance that the applicable criteria of NDAA could be met by the DOE, provided certain assumptions made in the DOE analyses were verified via monitoring. Taking into consideration the assumptions, conclusions, and recommendations in both the 2005 NRC TER and the 2006 DOE Final Basis for Waste Determination for the SRS SDF, the Secretary of Energy issued the SRS SDF Waste Determination in January 2006 that stated SRS treated salt waste is not high-level waste and may be disposed of at the SRS SDF. After issuance of the 2006 Secretary of Energy Waste Determination for the SRS SDF document, the NRC began monitoring the DOE disposal actions at the SRS SDF under NDAA Section 3116(b) in coordination with the NDAA-Covered State of South Carolina. In 2007, the NRC issued Revision 0 of the SRS SDF Monitoring Plan based on both the 2005 NRC TER and the 2006 DOE Final Basis for Waste Determination documents. In 2009, the DOE provided a revised SRS SDF Performance Assessment to the NRC. After its review of the revised DOE Performance Assessment, the NRC issued Revision 1 of the TER for the SRS SDF in April 2012. In the 2012 TER, the NRC staff documented the results of its review and concluded that it did not have reasonable assurance that salt waste disposal at the SDF met the Performance Objectives in part 61, subpart C, of title 10 of the Code of Federal Regulations (10 CFR), specifically 10 CFR 61.41 “Protection of the General Population from Releases of Radioactivity.” In 2013, the NRC issued Revision 1 of the SRS SDF Monitoring Plan based on the 2012 NRC TER. In 2020, the DOE provided a revised SRS SDF Performance Assessment to the NRC. After its review, the NRC issued Revision 2 of the TER for the SRS SDF in April 2023. In the 2023 TER, the NRC staff documented its review and concluded that if the DOE Closure Cap design and implementation achieve the DOE expected performance, as described in the 2020 SDF Performance Assessment, then there was reasonable assurance that the DOE disposal actions at the SDF meet or will meet all the 10 CFR part 61, subpart C, Performance Objectives, including the 10 CFR 61.40 Performance Objective.

In the issued monitoring plan, the NRC staff identified specific areas that it intends to monitor in assessing the DOE compliance with the 10 CFR part 61, subpart C Performance Objectives. The document describes what the NRC staff intends to do in each of those areas, as well as other activities that will be performed to allow a complete assessment of compliance with the 10 CFR part 61, subpart C, Performance Objectives. In finalizing the monitoring plan, the NRC staff considered comments and input from the NDAA-Covered State of South Carolina.

II. Availability of Documents

The documents identified in the following table are available to interested persons through one or more of the following methods, as indicated.

Document description | ADAMS accession No./ internet link
Ronald W. Reagan National Defense Authorization Act for Fiscal Year 2005 | https://www.congress.gov/108/plaws/publ375/PLAW-108publ375.pdf.
DOE Waste Determination for the Savannah River Site Saltstone Disposal Facility, dated January 2006 | ML17136A069.
NRC Technical Evaluation Report, Final Report, Revision 2, for the DOE Savannah River Site Saltstone Disposal Facility, dated April 2023 | ML23024A099.
Revised DOE Performance Assessment for the Savannah River Site Saltstone Disposal Facility, dated March 2020 | ML20190A056.
NRC Monitoring Plan, Revision 1, for the DOE Savannah River Site Saltstone Disposal Facility, dated September 2013 | ML13100A113.
NRC Technical Evaluation Report, Final Report, Revision 1, for the DOE Savannah River Site Saltstone Disposal Facility, dated April 2012 | ML121170309.
Revised DOE Performance Assessment for the Savannah River Site Saltstone Disposal Facility, dated October 2009 | ML101590008.
NRC Monitoring Plan, Revision 0, for the DOE Savannah River Site Saltstone Disposal Facility, dated May 2007 | ML070730363.
DOE Final Basis for Waste Determination for the Savannah River Site Saltstone Disposal Facility, dated January 2006 | ML102850319.
NRC Technical Evaluation Report, Revision 0, for the DOE Savannah River Site Saltstone Disposal Facility, dated December 2005 | ML053010225.
DOE Draft Basis for Waste Determination for the Savannah River Site Saltstone Disposal Facility, dated February 2005 | ML051020072.

Dated: March 31, 2025.
For the Nuclear Regulatory Commission.
Jane Marshall,
Director, Division of Decommissioning, Uranium Recovery, and Waste Programs, Office of Nuclear Material Safety and Safeguards.

[FR Doc. 2025-05747 Filed 4-2-25; 8:45 am]

BILLING CODE 7590-01-P